DEPARTMENT OF HEALTH AND HUMAN SERVICES

Centers for Medicare & Medicaid Services

[Document Identifier: CMS-10341]

Agency Information Collection Activities: Submission for OMB Review; Comment Request

AGENCY: Centers for Medicare & Medicaid Services, HHS.

ACTION: Notice; partial withdrawal.

SUMMARY: On Friday, July 9, 2021, the Centers for Medicare & Medicaid Services (CMS) published a notice entitled, “Agency Information Collection Activities: Submission for OMB Review; Comment Request.” That notice invited public comments on three separate information collection requests specific to document identifiers: CMS-10215, CMS-10249, and CMS-10341. Through the publication of this document, we are withdrawing the portion of the notice requesting public comment on the information collection request titled “Section 1115 Demonstration Projects Regulations at 42 CFR 431.408, 431.412, 431.420, 431.424, and 431.428.” Form number CMS-10341 (OMB control number 0938-1162). The withdrawn information collection request will be replaced by another 30-day notice in July or August of this year.

DATES: For CMS-10215 and CMS-10249, the original comment period for the notice that published on July 9, 2021, remains in effect and ends August 9, 2021.

SUPPLEMENTARY INFORMATION: In FR document, 2021-14671, published on July 9, 2021 (86 FR 36281), we are withdrawing item 3 “Section 1115 Demonstration Projects Regulations at 42 CFR 431.408, 431.412, 431.420, 431.424, and 431.428” which posted on page 36282.

Dated: July 9, 2021.
William N. Parham, III,
Director, Paperwork Reduction Staff, Office of Strategic Operations and Regulatory Affairs.

[FR Doc. 2021-15005 Filed 7-13-21; 8:45 am]

BILLING CODE 4120-01-P